COMMISSION ON CIVIL RIGHTS

Notice of Public Meeting of the North Dakota Advisory Committee; Cancellation

AGENCY: Commission on Civil Rights.

ACTION: Notice; cancellation of meeting.

SUMMARY: The Commission on Civil Rights published a notice in the Federal Register concerning a meeting of the North Dakota Advisory Committee. The meeting scheduled for Thursday, September 2, 2021, at 10:00 a.m. (CT) is cancelled. The notice is in the Federal Register of Monday, August 16, 2021, in FR Doc. 2021-17423, in the second and third columns of page 45702.

FOR FURTHER INFORMATION CONTACT: Evelyn Bohor, (202) 921-2212, ebohor@usccr.gov.

Dated: August 24, 2021.
David Mussatt,
Supervisory Chief, Regional Programs Unit.

[FR Doc. 2021-18576 Filed 8-27-21; 8:45 am]

BILLING CODE P